DEPARTMENT OF ENERGY

Federal Energy Regulatory Commission

Combined Notice of Filings #1

Take notice that the Commission received the following electric corporate filings:

Docket Numbers: EC15-60-000.

Applicants: Orange and Rockland Utilities, Inc.

Description: Application of Orange and Rockland Utilities, Inc. for order pursuant to section 203 of the Federal Power Act.

Filed Date: 1/16/15.

Accession Number: 20150116-5102.

Comments Due: 5 p.m. ET 2/6/15.

Take notice that the Commission received the following exempt wholesale generator filings:

Docket Numbers: EG15-30-000.

Applicants: Cross & Company, PLLC.

Description: Molex Incorporated Supplements Notice of EWG Status.

Filed Date: 1/16/15.

Accession Number: 20150116-5159.

Comments Due: 5 p.m. ET 2/6/15.

Take notice that the Commission received the following electric rate filings:

Docket Numbers: ER10-2331-029; ER14-630-006; ER10-2319-022; ER10-2317-022; ER14-1468-006; ER13-1351-004; ER10-2330-028.

Applicants: J.P. Morgan Ventures Energy Corporation, AlphaGen Power LLC, BE Alabama LLC, BE CA LLC, KMC Thermo, LLC, Florida Power Development LLC, Utility Contract Funding, L.L.C., Cedar Brakes I, L.L.C.

Description: Notice of Non-Material Change in Status of the J.P. Morgan Sellers under ER10-2331, et. al.

Filed Date: 1/16/15.

Accession Number: 20150116-5125.

Comments Due: 5 p.m. ET 2/6/15.

Docket Numbers: ER14-2590-001.

Applicants: PJM Interconnection, L.L.C.

Description: Compliance filing per 35: Compliance Filing per 12/19/14 Order in Docket No. ER14-2590-000 to be effective 11/1/2014.

Filed Date: 1/16/15.

Accession Number: 20150116-5129.

Comments Due: 5 p.m. ET 2/6/15.

Docket Numbers: ER14-2948-001.

Applicants: Tucson Electric Power Company.

Description: Compliance filing per 35: Gila River Power Station Ownership Agreement Compliance Filing to be effective 12/10/2014.

Filed Date: 1/16/15.

Accession Number: 20150116-5164.

Comments Due: 5 p.m. ET 2/6/15.

Docket Numbers: ER15-295-001.

Applicants: Black Hills/Colorado Electric Utility Company, LP.

Description: Tariff Amendment per 35.17(b): Joint Dispatch Amendment Filing—Response to Staff Letter to be effective 1/1/2015.

Filed Date: 1/15/15.

Accession Number: 20150115-5271.

Comments Due: 5 p.m. ET 2/5/15.

Docket Numbers: ER15-861-000.

Applicants: California Independent System Operator Corporation.

Description: Section 205(d) rate filing per 35.13(a)(2)(iii): 2015-01-15_EIM_Transition to be effective 2/13/2015.

Filed Date: 1/15/15.

Accession Number: 20150115-5284.

Comments Due: 5 p.m. ET 1/26/15.

Docket Numbers: ER15-862-000.

Applicants: Midcontinent Independent System Operator, Inc., Ameren Transmission Company of Illinois.

Description: Compliance filing per 35: 2015-01-16_ATXI ATRR Att O Compliance Filing to be effective 1/1/2015.

Filed Date: 1/16/15.

Accession Number: 20150116-5042.

Comments Due: 5 p.m. ET 2/6/15.

Docket Numbers: ER15-863-000.

Applicants: Southwest Power Pool, Inc.

Description: Section 205(d) rate filing per 35.13(a)(2)(iii): Revisions to Bylaws Section 8.4 and Membership Agreement section 1.0 to be effective 3/17/2015.

Filed Date: 1/16/15.

Accession Number: 20150116-5055.

Comments Due: 5 p.m. ET 2/6/15.

Docket Numbers: ER15-864-000.

Applicants: Wheelabrator Baltimore, L.P.

Description: Compliance filing per 35: Compliance to be effective 3/18/2015.

Filed Date: 1/16/15.

Accession Number: 20150116-5093.

Comments Due: 5 p.m. ET 2/6/15.

Docket Numbers: ER15-865-000.

Applicants: Wheelabrator Bridgeport, L.P.

Description: Compliance filing per 35: Compliance to be effective 3/18/2015.

Filed Date: 1/16/15.

Accession Number: 20150116-5094.

Comments Due: 5 p.m. ET 2/6/15.

Docket Numbers: ER15-866-000.

Applicants: Empire Generating Co, LLC.

Description: Compliance filing per 35: Compliance to be effective 3/18/2015.

Filed Date: 1/16/15.

Accession Number: 20150116-5095.

Comments Due: 5 p.m. ET 2/6/15.

Docket Numbers: ER15-867-000.

Applicants: Wheelabrator Frackville Energy Company I.

Description: Compliance filing per 35: Compliance to be effective 3/18/2015.

Filed Date: 1/16/15.

Accession Number: 20150116-5096.

Comments Due: 5 p.m. ET 2/6/15.

Docket Numbers: ER15-868-000.

Applicants: Wheelabrator North Andover Inc.

Description: Compliance filing per 35: Compliance to be effective 3/18/2015.

Filed Date: 1/16/15.

Accession Number: 20150116-5097.

Comments Due: 5 p.m. ET 2/6/15.

Docket Numbers: ER15-869-000.

Applicants: Wheelabrator Portsmouth Inc.

Description: Compliance filing per 35: Compliance to be effective 3/18/2015.

Filed Date: 1/16/15.

Accession Number: 20150116-5098.

Comments Due: 5 p.m. ET 2/6/15.

Docket Numbers: ER15-870-000.

Applicants: Wheelabrator Shasta Energy Company Inc.

Description: Compliance filing per 35: Compliance to be effective 3/18/2015.

Filed Date: 1/16/15.

Accession Number: 20150116-5099.

Comments Due: 5 p.m. ET 2/6/15.

Docket Numbers: ER15-871-000.

Applicants: Wheelabrator Westchester L.P.

Description: Compliance filing per 35: Compliance to be effective 3/18/2015.

Filed Date: 1/16/15.

Accession Number: 20150116-5101.

Comments Due: 5 p.m. ET 2/6/15.

Docket Numbers: ER15-872-000.

Applicants: Wisconsin Power and Light Company.

Description: Waiver Request of Wisconsin Power and Light Company.

Filed Date: 1/16/15.

Accession Number: 20150116-5153.

Comments Due: 5 p.m. ET 2/6/15.

Docket Numbers: ER15-873-000.

Applicants: Nevada Sun-Peak Limited Partnership.

Description: Notice of Cancellation of Amended Power Purchase Agreement, Rate Schedule FERC No. 2 of Nevada Sun-Peak Limited Partnership.

Filed Date: 1/16/15.

Accession Number: 20150116-5154.

Comments Due: 5 p.m. ET 2/6/15.

Docket Numbers: ER15-874-000.

Applicants: Midcontinent Independent System Operator, Inc.

Description: Section 205(d) rate filing per 35.13(a)(2)(iii): 2015-01-16_SA 2729 MidAmerican-RPM E&P (J343) to be effective 12/19/2014.

Filed Date: 1/16/15.

Accession Number: 20150116-5170.

Comments Due: 5 p.m. ET 2/6/15.

Docket Numbers: ER15-875-000.

Applicants: Tucson Electric Power Company.

Description: Section 205(d) rate filing per 35.13(a)(2)(iii): 230kV Attachment Agreement to be effective 3/17/2015.

Filed Date: 1/16/15.

Accession Number: 20150116-5181.

Comments Due: 5 p.m. ET 2/6/15.

Take notice that the Commission received the following electric securities filings:

Docket Numbers: ES15-9-000.

Applicants: Rockland Electric Company.

Description: Application of Rockland Electric Company for order pursuant to Section 204 of the Federal Power Act.

Filed Date: 1/16/15.

Accession Number: 20150116-5103.

Comments Due: 5 p.m. ET 2/6/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: January 16, 2015.
Nathaniel J. Davis, Sr.,
Deputy Secretary.

[FR Doc. 2015-01200 Filed 1-23-15; 8:45 am]

BILLING CODE 6717-01-P